NATIONAL TRANSPORTATION SAFETY BOARD

Sunshine Act; Meeting

Time and Date: 9:30 a.m. Tuesday, July 12, 2005.

Place: NTSB Board Room, 429 L'Enfant Plaza, SW., Washington, DC 20594.

Status: The one item is open to the public.

Matter to be Considered: 7727, Highway Accident Report—Motorcoach Median Crossover and Collision with the Sport Utility Vehicle, Hewitt, Texas, February 14, 2004 (HWY-03-MY-022).

News Media Contact: Telephone: (202) 314-6100.

Individuals requesting specific accommodations should contact Ms. Carolyn Dargan at (202) 314-6305 by Friday, July 8, 2005.

The public may view the meeting via a live or archived Webcast by accessing a link under “News & Events” on the NTSB home page at http://www.ntsb.gov.

FOR MORE INFORMATION CONTACT: Vicky D'Onofrio, (202) 314-6410.

Dated: July 1, 2005.
Vicky D'Onofrio,
Federal Register Liaison Officer.

[FR Doc. 05-13377 Filed 7-01-05; 1:49 pm]

BILLING CODE 7533-01-M